NATIONAL AERONAUTICS AND SPACE ADMINISTRATION

[Notice (18-028)]

Notice of Intent To Grant Exclusive Term License

AGENCY: National Aeronautics and Space Administration.

ACTION: Notice of intent to grant exclusive patent license.

SUMMARY: NASA hereby gives notice of its intent to grant an exclusive patent license in the United States to practice the invention described and claimed in USPN 9,483,674, entitled “RFID Torque-Sensing Tag System for Fasteners”, MSC-25626-1, to Solon Manufacturing, Inc., having its principal place of business in Chardon, Ohio.

DATES: The prospective exclusive license may be granted unless NASA receives written objections, including evidence and argument no later than April 18, 2018 that establish that the grant of the license would not be consistent with the requirements regarding the licensing of federally owned inventions as set forth in the Bayh-Dole Act and implementing regulations. Competing applications completed and received by NASA no later than April 18, 2018 will also be treated as objections to the grant of the contemplated exclusive license. Objections submitted in response to this notice will not be made available to the public for inspection and, to the extent permitted by law, will not be released under the Freedom of Information Act.

ADDRESSES: Objections relating to the prospective license may be submitted to Patent Counsel, Office of Chief Counsel, MS AL, NASA Johnson Space Center, 2101 NASA Parkway, Houston, TX 770585. Phone (281) 483-4871. Facsimile (281) 483-6936.

FOR FURTHER INFORMATION CONTACT: Mr. Walter Ugalde, Technology Transfer and Commercialization Office/XT1, Johnson Space Center, Houston, TX 77058, (281) 483-8615.

SUPPLEMENTARY INFORMATION: This notice of intent to grant an exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark Dvorscak,
Agency Counsel for Intellectual Property.

[FR Doc. 2018-06717 Filed 4-2-18; 8:45 am]

BILLING CODE 7510-13-P